DEPARTMENT OF HOMELAND SECURITY

Coast Guard

33 CFR Part 100

[Docket No. USCG-2009-0996]

RIN 1625-AA08

Special Local Regulation; Hydroplane Races Within the Captain of the Port Puget Sound Area of Responsibility

AGENCY: Coast Guard, DHS.

ACTION: Supplemental notice of proposed rulemaking; request for comments.

SUMMARY: The Coast Guard proposes to amend its regulation to establish permanent safety zones for hydroplane races taking place on various dates within Puget Sound, WA. This supplemental notice of proposed rulemaking changes the proposed regulation from establishing safety zones under 33 CFR part 165 to establishing a special local regulation under 33 CFR part 100, removes the duplicative Port Angeles race area and adds a race area in Lake Sammamish to the designated hydroplane race areas within the Captain of the Port, Puget Sound area of responsibility. When this proposed special local regulation is activated, and thus subject to enforcement, this rule would limit the movement of non-participating vessels within the regulated race areas while hydroplane races are taking place. This rule is needed to provide effective control over these events while ensuring the safety of the maritime public.

DATES: Comments and related material must be received by the Coast Guard on or before February 18, 2011. Requests for public meetings must be received by the Coast Guard on or before January 27, 2011.

ADDRESSES: You may submit comments identified by docket number USCG-2009-0996 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail LTJG Ashley M. Wanzer, Waterways Management, Sector Puget Sound, Coast Guard; telephone 206-217-6175, e-mail SectorPugetSoundWWM@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2009-0996), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Proposed Rule” and insert “USCG-2009-0996” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2009-0996” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before January 27, 2011 using one of the four methods specified under ADDRESSES. Please explain why you believe a public meeting would be beneficial. If we determine that one would aid this rulemaking, we will hold one at a time and place announced by a later notice in the Federal Register.

For information on facilities or services for individuals with disabilities or to request special assistance at the public meeting, contact LTJG Ashley M. Wanzer at the telephone number or e-mail address indicated under the FOR FURTHER INFORMATION CONTACT section of this notice.

Background and Purpose

The Coast Guard receives numerous marine event permits for hydroplane races taking place on the waterways of Dyes Inlet, Lake Washington, and Lake Sammamish, WA. Historically, these marine events involve the establishment of a safety zone which is established on an emergency basis to provide safety to the maritime public, participant and spectators during these races. This proposed rule would establish a special local regulation to restrict vessel movement in designated areas during permitted hydroplane marine events and eliminate the need to draft emergency rules to establish safety zones for hydroplane races in these designated areas. This rule will establish permanent, designated hydroplane race areas under 33 CFR part 100 enabling event sponsors and the Coast Guard to adequately provide safety in support of these marine events.

Discussion of Proposed Rule

The Coast Guard proposes establishing a special local regulation for hydroplane races occurring within the Captain of the Port, Puget Sound Area of Responsibility. This special local regulation is necessary to restrict vessel movement in designated race areas thereby ensuring unencumbered access for rescuers in the event of an emergency as well as to ensure public safety from the numerous dangers associated with high speed watercraft races.

On Tuesday, January 19, 2010, we published a notice of proposed rulemaking (NPRM) entitled “Safety Zones; Hydroplane Races within the Captain of the Port Puget Sound Area of Responsibility” in the Federal Register (75 FR 2833). We did not receive any comments on the proposed rule and did not receive any requests for a public meeting. A public meeting was not held. The NPRM published for this regulation included three permanent safety zones on the waters of Port Angeles, Dyes Inlet and Lake Washington. The Port Angeles hydroplane race area is duplicative to 33 CFR 100.1307 and has been removed from this proposed regulation. This proposed rule has been revised to create a special local regulation designating three permanent hydroplane race areas on the waters of Dyes Inlet, Lake Washington, and Lake Sammamish, WA to provide effective control over these hydroplane races while ensuring the safety of the maritime public during these events. The first designated race area is located in the northern section of Dyes inlet, west of Port Orchard, WA to include all waters north to land from a line connecting the following points 47°37.36′ N, 122°42.29′ W and 47°37.74′ N, 122°40.64′ W. The second designated race area is located in Lake Washington, south of the interstate 90 bridge and north of Andrew's Bay, WA to include all waters east of the shoreline within the following points: 47°34.15′ N, 122°16.40′ W; 47°34.31′ N, 122°15.96′ W; 47°35.18′ N, 122°16.31′ W; 47°35.00′ N, 122°16.71′ W. The third designated race area is located in Lake Sammamish south to land from a line connecting the following points 47°33.810′ N, 122°04.810′ W and 47°33.810′ N, 122°03.674′ W.

This special local regulation will restrict vessel movement within these designated hydroplane race areas immediately prior to, during and immediately following these permitted hydroplane marine events. These designated race areas are minimal in size and will be subject to enforcement only during hydroplane racing activities, historically 12 hours or less, with the purpose of providing safety for participants and other waterway users. These designated race areas are located in remote locations and are therefore expected to have a minimal impact on other waterway users. We expect races to occur multiple times throughout the year. Notification of the activation of this special local regulation will be provided to the public via broadcast notice to mariners.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, and does not require an assessment of potential costs and benefits under section 6(a)(3) of that Order. The Office of Management and Budget has not reviewed it under that Order. This rule is not a significant regulatory action because it will be activated and thus subject to enforcement for short periods of time in small areas which are not considered high-density vessel traffic areas.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule will affect the following small entities: The owners or operators of vessels intending to transit or anchor within these designated hydroplane race areas while enforced on the waters of northern Dyes Inlet, Lake Washington, and Lake Sammamish, Washington. This proposed rule will not have a significant economic impact on a substantial number of small entities because it is small in size and short in duration. The only vessels likely to be impacted will be recreational boaters. Because the impact of this proposed rule is expected to be so minimal, the Coast Guard certifies under 605(b) of the Regulatory Flexibility Act (5 U.S.C. 601 et seq.) that this rule will not have a significant impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance; please contact the Ombudsman at 1-888-REG-FAIR (188-734-3247). The Coast Guard will not retaliate against small entities that question or complain about this proposed rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination, under paragraph 34(h) of the Instruction, that this action is one of a category of actions that do not individually or cumulatively have a significant effect on the human environment. A preliminary checklist supporting this determination is available in the docket where indicated under ADDRESSES. This proposed rule involves the establishment of a special local regulation which designates three hydroplane race areas in support of hydroplane races events on the waters of Dyes Inlet, Lake Washington and Lake Sammamish, WA. Because marine events which seek to use this area will be required to conduct an environmental analysis as part of the permit process, this proposed rule is excluded from further environmental analysis. We seek any comments or information that may lead to the discovery of a significant environmental impact from this proposed rule.

List of Subjects in 33 CFR Part 100

Safety of life on navigable waters.

For the reasons discussed in the preamble, the Coast Guard proposes to amend 33 CFR Part 100 as follows:

PART 100—REGATTAS AND MARINE PARADES

1. The authority citation for part 100 continues to read as follows:

Authority: 33 U.S.C. 1233.

2. Add § 100.1308 to read as follows:

§ 100.1308 Special Local Regulation[s]; Hydroplane Races within the Captain of the Port Puget Sound Area of Responsibility.

(a) Location. The following areas are designated race areas for the purpose of reoccurring hydroplane races:

(1) All waters of Dyes inlet, west of Port Orchard, WA to include all waters north to land from a line connecting the following points 47°37.36′ N, 122°42.29′ W and 47°37.74′ N, 122° 40.64′ W.

(2) All waters of Lake Washington south of the interstate 90 bridge and north of Andrew's Bay, WA to include all waters east of the shoreline within the following points: 47°34.15′ N, 122°16.40′ W; 47°34.31′ N, 122°15.96′ W; 47°35.18′ N, 122°16.31′ W; 47°35.00′ N, 122°16.71′ W.

(3) All waters of Lake Sammamish south to land from a line connecting the following points 47°33.810′ N, 122°04.810′ and 47°33.810′ N 122°03.674′ W.

(b) Notice of Enforcement or Suspension of Enforcement. This special local regulation will be activated and thus subject to enforcement, under the following conditions: the Coast Guard must receive and approve a marine event permit for each hydroplane event in accordance with 33 CFR part 100. The Captain of the Port will provide notice of the enforcement of this special local regulation by all appropriate means to ensure the widest dissemination among the affected segments of the public, as practicable; such means of notification may include but are not limited to, Broadcast Notice to Mariners or Local Notice to Mariners.

(c) Regulations. (1) When this special local regulation is enforced, non-participant vessels are prohibited from entering the designated race areas unless authorized by the designated on-scene Patrol Commander.

Spectator craft may remain in designated spectator areas but must follow the directions of the designated on-scene Patrol Commander. The event sponsor may also function as the designated on-scene Patrol Commander. Spectator craft entering, exiting or moving within the spectator area must operate at speeds which will create a minimum wake.

(2) Emergency Signaling. A succession of sharp, short signals by whistle or horn from vessels patrolling the areas under the discretion of the designated on-scene Patrol Commander shall serve as a signal to stop. Vessels signaled shall stop and shall comply with the orders of the patrol vessel. Failure to do so may result in expulsion from the area, citation for failure to comply, or both.

Dated: November 24, 2010.
G.T. Blore,
Rear Admiral, U.S. Coast Guard, Commander, Thirteenth Coast Guard District.

[FR Doc. 2011-1022 Filed 1-18-11; 8:45 am]

BILLING CODE 9110-04-P